FEDERAL COMMUNICATIONS COMMISSION

47 CFR Part 73

[DA 07-4312; MB Docket No. 07-220; RM-11403]

Radio Broadcasting Services; Ash Fork and Paulden, AZ

AGENCY: Federal Communications Commission.

ACTION: Proposed rule.

SUMMARY: This document sets forth a proposal to amend the FM Table of Allotments, Section 73.202(b) of the Commission's rules, 47 CFR 73.202(b). The Commission requests comment on a petition filed by Sierra H Broadcasting, Inc. (“Petitioner”). Petitioner proposes channel substitutions for two vacant allotments contained in the FM Table of Allotments, in order to accommodate the allotment of Channel 266C at Cordes Lakes, Arizona. Petitioner proposes the substitution of Channel 259A for vacant FM Channel 267A at Ash Fork, Arizona, and the substitution of Channel 228C3 for vacant FM Channel 263C3 at Paulden, Arizona. Channel 259A can be allotted at Ash Fork in compliance with the Commission's minimum distance separation requirements with a site restriction of 7.4 km (4.6 miles) northwest of Ash Fork. The proposed coordinates for Channel 259A at Ash Fork are 35-16-13 North Latitude and 112-32-31 West Longitude. Channel 228C3 can be allotted at Paulden in compliance with the Commission's minimum distance separation requirements with a site restriction of 7.7 km (4.8 miles) west of Paulden. The proposed coordinates for Channel 228C3 at Paulden are 34-52-16 North Latitude and 112-33-00 West Longitude. See Supplementary Information infra.

DATES: Comments must be filed on or before December 10, 2007, and reply comments on or before December 26, 2007.

ADDRESSES: Federal Communications Commission, Washington, DC 20554. In addition to filing comments with the FCC, interested parties should serve counsel for petitioner as follows: Barry A. Friedman, Esq., Thompson Hine LLP, Suite 800, 1920 N Street, NW., Washington, DC 20036.

FOR FURTHER INFORMATION CONTACT: Deborah A. Dupont, Media Bureau (202) 418-7072.

SUPPLEMENTARY INFORMATION: This is a synopsis of the Commission's Notice of Proposed Rule Making, MB Docket No. 07-220, adopted October 17, 2007, and released October 19, 2007. The full text of this Commission decision is available for inspection and copying during normal business hours in the FCC Reference Information Center (Room CY-257), 445 12th Street, SW., Washington, DC 20554. The complete text of this decision may also be purchased from the Commission's copy contractor, Best Copy and Printing, Inc., 445 12th Street, SW., Room CY-B402, Washington, DC, 20554, (800) 378-3160, or via the company's Web site, www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Arizona, is amended by removing Channel 267A and by adding Channel 259A at Ash Fork, and by removing Channel 263C3 and by adding Channel 228C3 at Paulden.

Federal Communications Commission.
John A. Karousos,
Assistant Chief, Audio Division, Media Bureau.

[FR Doc. E7-22119 Filed 11-9-07; 8:45 am]

BILLING CODE 6712-01-P